DEPARTMENT OF LABOR

Employment and Training Administration

Financial Reporting Requirements for Programs Currently Reporting on Standard Form 269

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)]. This program helps to ensure that requested data can be provided in the desired format, reporting burden (time and financial resources) is minimized, collection instruments are clearly understood, and the impact of collection requirements on respondents can be properly assessed. ETA is soliciting comments concerning the revised financial reporting requirements for all ETA programs which do not otherwise have OMB approved program-specific financial reporting requirements.

DATES: Written comments must be submitted to the office listed in the addressee's section below on or before March 6, 2006.

ADDRESSES: Isabel Danley, Office of Grants and Contract Management, Employment and Training Administration, United States Department of Labor, 200 Constitution Avenue, NW., Room N-4716, Washington, DC 20210, 202-693-3047 (this is not a toll-free number), danley.isabel@dol.gov, and/or fax 202-693-3362.

FOR FURTHER INFORMATION CONTACT: Isabel Danley, Office of Grants and Contract Management, Employment and Training Administration, United States Department of Labor, 200 Constitution Avenue, NW., Washington, DC 20210, 202-693-3047 (this is not a toll-free number), danley.isabel@dol.gov, and/or fax 202-693-3362. Copies of the Paperwork Reduction Act Submission Package, including the proposed revised form and instructions, are at this Web site: http://www.doleta.gov/Performance/guidance/OMBControlNumber.cfm.

SUPPLEMENTARY INFORMATION:

I. Background

This proposed information collection notice is requesting a revised financial reporting collection format for all ETA programs currently reporting on the OMB approved Standard Form (SF) 269 (REV 9-99.) The basic financial reporting requirements for all Federal programs are prescribed by OMB Circulars A-102 and A-110. These requirements are codified in Department of Labor Regulations at 29 CFR 95.52 and 29 CFR 97.41, which specify that the SF 269 or such other forms that may be approved by OMB are authorized for obtaining financial information from recipients. Further, the revised U.S. DOL ETA Financial Report is consistent with OMB efforts to streamline Federal financial reporting, pursuant to Public Law 106-107.

II. Desired Focus of Comments

Currently, the Department is soliciting comments concerning the revised financial reporting collection format for all ETA programs which currently report on the SF 269 to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information clearance request (ICR), including the proposed revised form and instructions, can be obtained directly through the Web site: http://www.doleta.gov/Performance/guidance/OMBControlNumber.cfm or by contacting the office listed above in the addressee section of this notice.

III. Current Actions

Type of Review: New.

Agency: Employment and Training Administration.

Title: Financial Reporting Requirements for ETA Programs Currently Reporting on SF 269.

Affected Public: State agencies, local governments, and/or other for profit and non-profit organizations; and consortia of any and/or all of the above.

Total Respondents: 680.

Frequency: Quarterly.

DOL-ETA Reporting Burden for Entities That Will Be Reporting on Revised Financial Status Report
| PY 2004: PY 2004 | PY 2004: FY 2005 | PY 2004: Total | PY 2005: PY 2005 | PY 2005: FY 2006 | PY 2005: Total
Average number of reports per entity per quarter | 1 | 1 | 2 | 1 | 1 | 2
Average number of reports per entity per year | 4 | 4 | 8 | 4 | 4 | 8
Average number of hours required for reporting per quarter per report | ½ | ½ | ½ | ½ | ½ | ½
Average number of hours required for reporting per entity per year | 2 | 2 | 4 | 2 | 2 | 4
Number of entities reporting | 680 | 680 | 680 | 680 | 680 | 680
Average number of hours required for reporting burden per year | 1360 | 1360 | 2720 | 1360 | 1360 | 2720
Total burden cost @ $30.22 per hour |  |  | $82,198 |  |  | $82,198

Note: The above data represents average burden figures for all ETA programs that will be reporting on the revised U.S. DOL ETA Financial Report and that are currently reporting on the SF 269. Programs included in this compilation are: State Employment Security Agencies (SESAs), comprised of Employment Service (ES), Unemployment Service (UI), and Trade Program Grant Agreements (TAs); Hardmark Grants; Business Relations Group High Growth Grants; H-I B Grants; Youth, comprised of Offender, Foster Care, Opportunity, and Rewarding Achievement Grants; and Performance Incentive Grants. Estimates also include provision for other miscellaneous grants which are yet to be funded, but which will report on the revised Financial Report. (An exception to the average number of reports per entity per quarter are the SESAs which each have 3 components, ES, UI, and Trade, for an approximate total of 25 reports per quarter.) Total burden cost was based upon a GS-12, Step 1 salary as calculated from Salary Table 2005-DCB, effective January 2005.

Comments submitted in response to this notice will be summarized and/or included in the request for Office of Management and Budget approval of the ICR; they will become a matter of public record.

Dated: December 28, 2005.
Emily Stover DeRocco,
Assistant Secretary, Employment and Training Administration.

[FR Doc. E5-8288 Filed 1-4-06; 8:45 am]

BILLING CODE 4510-30-P